DEPARTMENT OF THE INTERIOR

National Park Service

[NPS-WASO-NAGPRA-15437; PPWOCRADN0-PCU00RP14.R50000]

Notice of Inventory Completion: Museum of Northern Arizona, Flagstaff, AZ

AGENCY: National Park Service, Interior.

ACTION: Notice.

SUMMARY: The Museum of Northern Arizona has completed an inventory of human remains and associated funerary objects, in consultation with the appropriate Indian tribes or Native Hawaiian organizations, and has determined that there is a cultural affiliation between the human remains and associated funerary object and present-day Indian tribes or Native Hawaiian organizations. Lineal descendants or representatives of any Indian tribe or Native Hawaiian organization not identified in this notice that wish to request transfer of control of these human remains and associated funerary object should submit a written request to the Museum of Northern Arizona. If no additional requestors come forward, transfer of control of the human remains and funerary object to the lineal descendants, Indian tribes, or Native Hawaiian organizations stated in this notice may proceed.

DATES: Lineal descendants or representatives of any Indian tribe or Native Hawaiian organization not identified in this notice that wish to request transfer of control of these human remains and associated funerary object should submit a written request with information in support of the request to the Museum of Northern Arizona at the address in this notice by June 16, 2014.

ADDRESSES: Elaine Hughes, Collection Manager, Museum of Northern Arizona, 3103 North Fort Valley Road, Flagstaff, AZ 86001, telephone (928) 774-5211, email ehughes@mna.mus.az.us.

SUPPLEMENTARY INFORMATION: Notice is here given in accordance with the Native American Graves Protection and Repatriation Act (NAGPRA), 25 U.S.C. 3003, of the completion of an inventory of human remains and associated funerary object under the control of the Museum of Northern Arizona. The human remains and associated funerary object were removed from an unknown archeological site in Coconino County, AZ.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the Coconino National Forest and Museum of Northern Arizona professional staff in consultation with representatives of the Havasupai Tribe of the Havasupai Reservation, Arizona; Hopi Tribe of Arizona; Hualapai Indian Tribe of the Hualapai Indian Reservation, Arizona; Navajo Nation of Arizona, New Mexico & Utah; Yavapai-Prescott Indian Tribe; and the Zuni Tribe of the Zuni Reservation, New Mexico.

History and Description of the Remains

In 1939, human remains representing, at minimum, one individual were removed from private or state-owned lands in Coconino County, AZ, by private individuals without permission or knowledge of the landowners. Records of the removal provide substantive evidence that the human remains and associated funerary object were recovered from a prehistoric archeological site. Due to the interspersed nature of the private and state land parcels in this area and the casual nature of the excavation records, it is not possible to accurately establish the location of the site from which they were removed. In 1981, the human remains and associated funerary object were donated to the Museum of Northern Arizona. The associate funerary object is one ceramic vessel.

The human remains and associated funerary object were removed from a site related to the Northern Sinagua archeological culture. The Museum of Northern Arizona is using the cultural affiliation study completed by the USDA Forest Service in 1996 for prehistoric archeological remains in Coconino County, AZ, including lands directly adjacent to this site. Based on evidence relevant to archeological, anthropological, biological, geographical, oral traditions/folklore and kinship, the USDA Forest Service established that the Northern Sinagua were most closely affiliated with the modern Hopi Tribe of Arizona. In reviewing the 1996 USDA cultural affiliation study, as well as pertinent literature in the site records at the Museum of Northern Arizona and a study of the human remains and associated funerary object, the Museum of Northern Arizona concurs that the objects are most closely affiliated with the modern Hopi Tribe of Arizona.

Determinations Made by the Museum of Northern Arizona

Officials of the Museum of Northern Arizona have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Hopi Tribe of Arizona.

Additional Requestors and Disposition

Lineal descendants or representatives of any Indian tribe or Native Hawaiian organization not identified in this notice that wish to request transfer of control of these human remains and funerary object should submit a written request with information in support of the request to Elaine Hughes, Collection Manager, Museum of Northern Arizona, 3103 North Fort Valley Road, Flagstaff, AZ 86001, telephone (928) 774-5211, email ehughes@mna.mus.az.us, by June 16, 2014. After that date, if no additional requestors have come forward, transfer of control of the human remains and associated funerary object to the Hopi Tribe of Arizona may proceed.

The Museum of Northern Arizona is responsible for notifying the Havasupai Tribe of the Havasupai Reservation, Arizona; Hopi Tribe of Arizona; Hualapai Indian Tribe of the Hualapai Indian Reservation, Arizona; Navajo Nation of Arizona, New Mexico & Utah; Yavapai-Prescott Indian Tribe; and the Zuni Tribe of the Zuni Reservation, New Mexico, that this notice has been published.

Dated: March 31, 2014.
Sherry Hutt,
Manager, National NAGPRA Program.

[FR Doc. 2014-11229 Filed 5-14-14; 8:45 am]

BILLING CODE 4312-50-P